DEPARTMENT OF HOMELAND SECURITY

Federal Emergency Management Agency

[Docket ID: FEMA-2021-0010; OMB No. 1660-0039]

Agency Information Collection Activities: Submission for OMB Review; Comment Request; National Fire Academy Long-Term Evaluation Form for Supervisors and National Fire Academy Long-Term Evaluation Form for Students/Trainees

AGENCY: Federal Emergency Management Agency, Department of Homeland Security.

ACTION: 30-Day notice of renewal and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 7, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Dawn Long, Statistician, FEMA, National Fire Academy at (301) 447-1488.

SUPPLEMENTARY INFORMATION: This proposed information collection previously published in the Federal Register on March 15, 2021, at 86 FR 14335 with a 60-day public comment period. No comments were received. The purpose of this notice is to notify the public that FEMA will submit the information collection abstracted below to the Office of Management and Budget for review and clearance.

Collection of Information

Title: National Fire Academy Long-Term Evaluation Form for Supervisors and National Fire Academy Long-Term Evaluation Form for Students/Trainees.

Type of Information Collection: Extension, without change, of a currently approved information collection.

OMB Number: 1660-0039.

Form Titles and Numbers: FEMA Form 078-0-2, National Fire Academy Long-Term Evaluation Form for Supervisors; FEMA Form 078-0-2A, National Fire Academy Long-Term Evaluation Form for Students/Trainees.

Abstract: The National Fire Academy Long-Term Evaluation Forms will be used to evaluate all National Fire Academy (NFA) on-campus resident training courses. Course graduates and their supervisors will be asked to evaluate the impact of the training on both individual job performance and the performance of the fire and emergency response department where the student works. The data provided by students and supervisors is used to update existing NFA course materials and to develop new courses that reflect the emerging issues and needs of the Nation's fire service.

Affected Public: State, local or Tribal governments.

Estimated Number of Respondents: 3,000.

Estimated Number of Responses: 3,000.

Estimated Total Annual Burden Hours: 405.

Estimated Total Annual Respondent Cost: $20,741.

Estimated Respondents' Operation and Maintenance Costs: $0.

Estimated Respondents' Capital and Start-Up Costs: $0.

Estimated Total Annual Cost to the Federal Government: $46,643.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-11838 Filed 6-4-21; 8:45 am]

BILLING CODE 9111-45-P